DEPARTMENT OF HOMELAND SECURITY

Federal Emergency Management Agency

Agency Information Collection Activities: Proposed Collection; Comment Request

AGENCY: Federal Emergency Management Agency, DHS.

ACTION: Notice; 60-day notice and request for comments; Extension, without change, of a currently approved collection, OMB Number 1660-0014, FEMA Form—None.

SUMMARY: The Federal Emergency Management Agency, as part of its continuing effort to reduce paperwork and respondent burden, invites the general public and other Federal agencies to take this opportunity to comment on a continuing information collection. In accordance with the Paperwork Reduction Act of 1995, this notice seeks comments concerning reimbursement of claims submitted for fighting fires on Federal property.

SUPPLEMENTARY INFORMATION: The collection of information is necessary in order to reimburse fire services for claims submitted for fighting fires on property that is under jurisdiction of the United States. Section II of the Federal Fire Prevention and Control Act of 1974, implemented under 44 CFR part 151, provides that each fire service that engages in the fighting of a fire on property which is under the jurisdiction of the United States and who has a mutual aid agreement in effect between claimant and the Federal Emergency Management Agency (FEMA) for the property upon which the fire occurred, may file a claim with FEMA for the amount of direct expense and direct losses incurred by such fire services as a result of fighting fires.

Collection of Information

Title: Reimbursement for Cost of Fighting Fire on Federal Property.

Type of Information Collection: Extension, without change, of a currently approved collection.

OMB Number: 1660-0014.

Form Numbers: FEMA Form—None.

Abstract: The Federal Emergency Management Agency (FEMA), the Administrator of the United States Fire Administration (USFA); and the United States Treasury will use the information to ensure proper expenditure of Federal funds. Once a claim is received, a copy of FEMA determination and the claim is forwarded to the Treasury Department. The Treasury Department will pay for fire services or its parent jurisdiction for any moneys in the treasurer subject to reimbursement, to the Federal department or agency under whose jurisdiction the fire occurred.

Affected Public: Federal Government, and State, Local or Tribal Government.

Estimated Total Annual Burden Hours:

Annual Hour Burden
Data collection activity/instrument | No. of respondents: (A) | Frequency of responses: (B) | Hour burden per response: (C) | Annual responses: (D) = (A × B) | Total annual burden hours: (C × D)
Claims Information | 4 | 4 | 1.5 | 16 | 24
Total | 4 | 4 | 1.5 | 16 | 24

Estimated Cost: The annualized cost burden for Fire Chiefs to complete and process a claim is estimated to be $15,360 annually. The estimated annual cost to the Federal Government is $654.00.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 17, 2008.

ADDRESSES: Interested persons should submit written comments to Office of Management, Records Management Division, Federal Emergency Management Agency, 500 C Street, SW., Washington, DC 20472, Mail Drop Room 301.

FOR FURTHER INFORMATION CONTACT: Contact Tim Ganley, Fire Program Specialist, U.S. Fire Administration, (301) 447-1358 for additional information. You may contact the Records Management Branch for copies of the proposed collection of information at facsimile number (202) 646-3347 or e-mail address: FEMA-Information-Collections@dhs.gov.

Dated: September 11, 2008.
John A. Sharetts-Sullivan,
Director, Records Management Division, Office of Management, Federal Emergency Management Agency, Department of Homeland Security.

[FR Doc. E8-21769 Filed 9-16-08; 8:45 am]

BILLING CODE 9110-17-P